DEPARTMENT OF DEFENSE

Office of the Secretary

[Docket ID: DoD-2022-OS-0109]

Submission for OMB Review; Comment Request

AGENCY: Office of the Defense Contract Audit Agency, Department of Defense (DoD).

ACTION: 30-Day information collection notice.

SUMMARY: The DoD has submitted to the Office of Management and Budget (OMB) for clearance the following proposal for collection of information under the provisions of the Paperwork Reduction Act.

DATES: Consideration will be given to all comments received by March 1, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Defense Contract Audit Agency Customer Relationship Management Tool; OMB Control Number 0704-DCRM.

Type of Request: New.

Number of Respondents: 475.

Responses per Respondent: 1.

Annual Responses: 475.

Average Burden per Response: 10 minutes.

Annual Burden Hours: 79.17.

Needs and Uses: DCAA needs to collect the data so as to conduct marketing, advertising, outreach, and recruitment activities with potential leads and applicants for employment. DCAA needs to manage all tracking and communications associated with potential leads so as to retain potential applicants during and through the recruitment and hiring process. DCAA needs the data to continuously engage with potential leads who may not initially meet minimum qualification requirements; who may have applied/submitted a resume but were not selected; or who meet all requirements except having graduated from college. DCAA needs the data to conduct data analytics for outreach and recruitment return on investment assessments; to better refine outreach strategies, and to measure effectiveness of marketing and advertising efforts/campaigns.

Affected Public: Individuals or households.

Frequency: On occasion.

Respondent's Obligation: Voluntary.

OMB Desk Officer: Ms. Jasmeet Seehra.

You may also submit comments and recommendations, identified by Docket ID number and title, by the following method:

• Federal eRulemaking Portal: https://;www.regulations.gov. Follow the instructions for submitting comments.

Instructions: All submissions received must include the agency name, Docket ID number, and title for this Federal Register document. The general policy for comments and other submissions from members of the public is to make these submissions available for public viewing on the internet at https://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: January 25, 2023.
Aaron T. Siegel,
Alternate OSD Federal Register Liaison Officer, Department of Defense.

[FR Doc. 2023-01815 Filed 1-27-23; 8:45 am]

BILLING CODE 5001-06-P